DEPARTMENT OF COMMERCE

Office of the Secretary

Request for Comments on the Strategy for American Innovation

AGENCY: Office of the Secretary, Department of Commerce.

ACTION: Notice and request for information.

SUMMARY: The America COMPETES Reauthorization Act of 2010 directs the Department of Commerce (DOC), in consultation with the National Economic Council (NEC), to deliver to Congress a study by January 4, 2011 on our nation's innovative capacity and international competitiveness. Section 604, Public Law No: 111-358. To assist with that effort, the DOC is initiating a series of public engagements, seeking input on a range of policy matters that can affect our innovativeness and competitiveness. The subject area is quite broad. As a starting point, DOC publishes this Notice and Request for Information (RFI) to obtain comment on the Administration's Innovation Strategy (see http://www.Commerce.gov/competes for a link to the report). This strategy document summarizes policy initiatives that aim to improve our national innovation system, and thereby accelerate our economic growth by increasing the international competitiveness of American businesses and workers. This RFI provides an opportunity for interested parties to discuss those initiatives. In the coming months, DOC will create additional opportunities for the public to comment on a range of related topics, such as those specifically identified in the America COMPETES Reauthorization Act but not mentioned in the Strategy.

DATES: Comments must be postmarked or submitted by no later than April 1, 2011.

ADDRESSES: You may submit comments, identified by “Innovation Strategy RFI” by any of the following methods: E-mail: competiveness@doc.gov. Mail: Office of the Chief Economist, U.S. Department of Commerce, 1401 Constitution Avenue, NW., HCHB Room 4852, Washington, DC 20230.

FOR FURTHER INFORMATION CONTACT: Sabrina L. Montes, E-mail: SMontes@doc.gov. Telephone: 202 482-3659.

SUPPLEMENTARY INFORMATION:

Background

The Administration's Innovation Strategy details its efforts to strengthen our nation's competitiveness and long-run economic growth. The document explains the essential role of innovation in American prosperity, the central importance of the private sector as the engine of innovation, and the critical, targeted roles of government in supporting our innovation system. The document further describes longer-run goals and milestones for our nation. The Strategy organizes the Administration's existing policy initiatives into three parts:

(1) Invest in the Building Blocks of American Innovation

The premise here is that economic growth builds upon investments in the basic foundations of society—such as education, basic research, and modern infrastructure—and that without such investments innovation cannot thrive. In line with the Strategy, the Administration's pro-innovation initiatives seek to generate the highest returns on investments in each of these areas: in education and training systems that can increase opportunities for American workers and increase their innovative capacity; in basic research that can unearth and unleash fundamental scientific breakthroughs that, in turn, often can lead to cascades of commercial innovations, as well as the birth of new enterprises and industries; and in critical infrastructure, including our nation's transportation and electricity systems and the information and computer networks that increasingly drive 21st century economies.

(2) Promote Market-Based Innovation

The Strategy also recognizes that American businesses and the marketplace are the engines of innovation. Through its various initiatives, the Administration seeks to ensure that commercial innovation remains the driving force for our economic growth, that businesses enjoy the right competitive landscape for innovation at home and abroad, and that the government administers central responsibilities, such as those surrounding intellectual property rights, competition policy, international trade, spectrum auctions, corporate taxation, and regulatory law, in an optimal manner to promote innovation.

(3) Catalyze Breakthroughs for National Priorities

Finally, the Strategy points out that in areas of well-defined national importance, public investments often can catalyze advances, bringing about key breakthroughs and establishing U.S. leadership faster than what might be possible otherwise. Here, the Administration seeks to make strategic investments beyond the ken of the private sector, using the right mechanisms, in the best portfolio of national priority areas, including clean energy, biotechnology, nanotechnology, educational and health information technologies, and space technologies.

Request for Information

This RFI focuses on how the Administration can improve its efforts in these areas. The Administration recognizes that good ideas come from many corners, which is a driving force for the success of our marketplace in generating commercial innovations and the success of our research institutions in generating fundamental scientific breakthroughs. This RFI seeks to draw on that same American ingenuity, expertise, and insight to improve those governmental activities that nurture the innovation potential of our nation.

The following questions should be seen as a framework for providing comments on the specific policies outlined in the Administration's Strategy for American Innovation. Commenters should not feel constrained by them. We are not only interested in feedback on existing pro-innovation initiatives, but also seek guidance on how these initiatives might be adjusted for the coming years. And, we seek recommendations for related, new initiatives. Commenters should not hesitate to offer new ideas, including new strategic priorities, for achieving the longer-run goals of accelerating economic growth and competitiveness. The following list is intended to assist in the formulation of comments but not to restrict the issues that might be addressed.

(1) Government research and development: How can the economic impacts of basic research funding (e.g., NSF, NIH) be better measured and evaluated? What methods can the Federal Government use to prioritize funding areas of basic research, both within an area of science and across areas of science? How can existing Federal government institutions (not just organizations, but also programs, policies, and laws) devoted to basic research and innovation be improved? Are there new institutions of these types that are needed to achieve national innovation goals? How could the government increase support for industry-led, pre-competitive R&D?

(2) Entrepreneurship: Through what measures can government policy better facilitate the creation and success of innovative new businesses? What obstacles limit entrepreneurship in America, and which of these obstacles can be reduced through public policy? What are the most important policy, legal, and regulatory steps that the federal government could take to expand access to capital for high-growth businesses?

(3) Intellectual Property: What are the key elements of any legal reform effort that would ensure that our intellectual property system provides timely, high-quality property rights and creates the best incentives for commercial innovation? How can the intellectual property system better serve the dual goals of creating incentives for knowledge creation while also ensuring that knowledge is widely diffused and adopted and moves to its best economic and societal uses?

(4) Education: How important is catalyzing greater interest and training in science, technology, engineering and mathematics (STEM) fields? What strategies can be most effective on this score? Can educational technologies be better utilized to this end? What are the critical opportunities and limitations to the creation and adoption of effective education technologies? How can investments in community colleges better leverage public-partnerships to better train Americans for the jobs of today and tomorrow?

(5) Incentives to innovate: How could the government better use incentives (including but not limited to procurement, Advanced Market Commitments, incentive prizes, and aggregation of demand) to promote innovation? Are there other economically-sound incentives that the government should provide?

(6) Manufacturing: What is the role of advanced manufacturing in driving American economic growth and international competitiveness, and what are the key obstacles to success at advanced manufacturing? In which manufacturing industries will our nation have comparative advantages?

(7) Exports: How could the government better assist small and medium-sized domestic firms sell their products abroad? What policies can be pursued that would help all U.S. businesses increase their exports?

(8) Implications of changes in the innovative process: In recent years, some experts have noted that the innovation process itself is changing, and that approaches such as user-driven innovation, open innovation, design thinking, combinatorial innovation, modularity, and multi-disciplinary innovation are growing in importance. What are the policy implications of these and other changes in the innovation process? Should policy makers be thinking differently about our approach to industrial organization and competition policy in light of these changes?

(9) Innovation in the services sector: What sectors of the economy have gained less from innovation in the past and—to the extent that innovation could have sustained competitiveness—what are the obstacles to their progress? What are the policy issues that are raised by the nature of innovation in the service sector?

(10) Enhancing the exchange of ideas: How can public policy better promote the exchange of ideas among market participants—that is, support “markets for technology”—that enhance the social value of innovations? Similarly, how can the government assist in the diffusion of best practices? Given that ideas and knowledge cannot be traded as readily as are physical goods, what is the government's role in supporting more effective markets?

We recognize that since the initial launch of the Innovation Strategy in 2009, DOC and other parts of the Administration have released other Requests for Information on innovation-related topics. For instance, DOC's Office of Innovation & Entrepreneurship (http://www.eda.gov/OIE) has collaborated with the NEC and the Office of Science and Technology Policy on, among other things, an RFI focused on improving the commercialization of university-driven basic research. See http://www.eda.gov/PDF/WH%20RFI%20Announcement.pdf. Many of these inquiries are still in-process. Commenters on this RFI are welcome to submit materials generated for those other matters in order to build the record for our January 2012 report to Congress. Additional reports, articles, and analyses are also welcome, although we strongly urge that they be submitted electronically and that commenters identify in their cover letters how those other materials relate to this inquiry.

Issued in Washington, DC on February 1, 2011.
John Connor,
Office of the Secretary of Commerce.

[FR Doc. 2011-2558 Filed 2-3-11; 8:45 am]

BILLING CODE 3510-EA-P